DEPARTMENT OF EDUCATION

[Docket No. ED-2015-ICCD-0016]

Agency Information Collection Activities; Submission to the Office of Management and Budget for Review and Approval; Comment Request; Application Package for Grants Under the Minority Science & Engineering Improvement Program (MSEIP) (1894-0001)

AGENCY: Office of Postsecondary Education (OPE), Department of Education (ED).

ACTION: Notice.

SUMMARY: In accordance with the Paperwork Reduction Act of 1995 (44 U.S.C. chapter 3501 et seq.), ED is proposing a reinstatement of a previously approved information collection.

DATES: Interested persons are invited to submit comments on or before March 16, 2015.

ADDRESSES: Comments submitted in response to this notice should be submitted electronically through the Federal eRulemaking Portal at http://www.regulations.gov by selecting Docket ID number ED-2015-ICCD-0016 or via postal mail, commercial delivery, or hand delivery. If the regulations.gov site is not available to the public for any reason, ED will temporarily accept comments at ICDocketMgr@ed.gov. Please note that comments submitted by fax or email and those submitted after the comment period will not be accepted; ED will ONLY accept comments during the comment period in this mailbox when the regulations.gov site is not available. Written requests for information or comments submitted by postal mail or delivery should be addressed to the Director of the Information Collection Clearance Division, U.S. Department of Education, 400 Maryland Avenue SW., LBJ, Mailstop L-OM-2-2E319, Room 2E115, Washington, DC 20202.

FOR FURTHER INFORMATION CONTACT: For specific questions related to collection activities, please contact Stacey Slijepcevic, (202) 219-7124.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Application Package for Grants Under the Minority Science & Engineering Improvement Program (MSEIP) (1894-0001).

OMB Control Number: 1840-0109.

Type of Review: A reinstatement of a previously approved information collection.

Respondents/Affected Public: State, Local and Tribal Governments.

Total Estimated Number of Annual Responses: 200.

Total Estimated Number of Annual Burden Hours: 8,000.

Abstract: The purpose of the Minority Science and Engineering Improvement Program (MSEIP) is to effect long-range improvement in science and engineering education at predominantly minority institutions and to increase the flow of underrepresented ethnic minorities, particularly minority women, into scientific and technological careers. MSEIP supports the Federal Government's efforts to improve and expand the scientific and technological capacity of the United States to support its technological and economic competitiveness.

For the purpose of planning for a competition in fiscal year (FY) 2015 for grants under the MSEIP, this application package includes program background, application instructions, and forms needed to submit a complete application to the Department of Education.

The information on the applicant's eligibility form will be collected annually from applicants that desire to apply for awards under Title III, Part E—Minority Science and Engineering Improvement Program (MSEIP). Applicants for MSEIP include public and private, nonprofit postsecondary institutions, nonprofit science-oriented organizations, and professional scientific societies. Without the collection of this information, the Department cannot properly screen applicants for eligibility, and therefore cannot award new grants in accordance with the Congressional intent of this program. The program staff and peer reviewers will use the information collected to evaluate applications and make funding decisions.

Dated: February 9, 2015.
Tomakie Washington,
Acting Director, Information Collection Clearance Division, Privacy, Information and Records Management Services, Office of Management.

[FR Doc. 2015-02963 Filed 2-12-15; 8:45 am]

BILLING CODE 4000-01-P